DEPARTMENT OF HOUSING AND URBAN DEVELOPMENT

[Docket No. FR-5116-N-01]

Establishment of Office of Hearings and Appeals

AGENCY: Office of the Secretary, HUD.

ACTION: Notice.

SUMMARY: In this notice, HUD announces the establishment of an Office of Hearings and Appeals within the Office of the Secretary.

FOR FURTHER INFORMATION CONTACT: Earnestine T. Pruitt, Deputy Assistant Secretary, Office of Administration, Department of Housing and Urban Development, 451 Seventh Street, SW., Room 2158, Washington, DC 20410, telephone (202) 7080-1381 (this is not a toll-free number). Hearing- or speech-impaired individuals may access this number through TTY by calling the toll-free Federal Information Relay Service at (800) 877-8339.

SUPPLEMENTARY INFORMATION: HUD has established an Office of Hearings and Appeals within the Office of the Secretary, under the supervision of the Director of the Office of Hearings and Appeals. The Office of Hearings and Appeals consists of two separate divisions: the Office of Administrative Law Judges and the Office of Appeals. The Director of the Office of Hearings and Appeals shall supervise and manage the administrative activities of the Office of Administrative Law Judges and the Office of Appeals.

The Office of Administrative Law Judges shall have independent jurisdiction in deciding cases consistent with statutes and HUD regulations. The Office of Appeals shall have judicial review and jurisdiction of non-contract cases currently handled by the HUD Board of Contract Appeals in accordance with following regulatory sections in title 24 of the Code of Federal Regulations: §§ 17.150 through 17.170 20.4(b), 24.947, 25.3 and 26.2, and consistent with applicable statutes, regulations, agreements, or such other matters as may be assigned by the Secretary of HUD or the Secretary's designee.

The establishment of an Office of Hearings and Appeals facilitates operations within HUD relating to the implementation of section 847 of Title VIII of the National Defense Authorization Act of Fiscal Year 2006 (Public Law 109-613, approved January 6, 2006).

Dated: December 15, 2006.
Alphonso Jackson,
Secretary.

[FR Doc. E6-21867 Filed 12-20-06; 8:45 am]

BILLING CODE 4210-67-P